DEPARTMENT OF COMMERCE

International Trade Administration

[Application No. 10-7A001]

Export Trade Certificate of Review

ACTION: Notice of issuance of an amended Export Trade Certificate of Review for Alaska Longline Cod Commission (ALCC), Application No. 10-7A001.

SUMMARY: The Secretary of Commerce, through the Office of Trade and Economic Analysis (OTEA), issued an amended Export Trade Certificate of Review to ALCC on December 3, 2024.

FOR FURTHER INFORMATION CONTACT: Amanda Reynolds, Acting Director, OTEA, International Trade Administration, (202) 482-5131 (this is not a toll-free number) or email at etca@trade.gov.

SUPPLEMENTARY INFORMATION: Title III of the Export Trading Company Act of 1982 (15 U.S.C. 4011-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Certified Conduct

ALCC's Certificate is amended as follows:

1. Added the following six products as Export Products within the meaning of section 325.2(j) of the Regulations (15 CFR 325.2(j)):

a. Headed and gutted pollock

b. Headed and gutted sablefish

c. Sablefish heads

d. Sablefish collars

e. Headed, gutted, and tailed Greenland turbot

f. Turbot heads

Under Export Trade in the Certificate, the Export Products are as follows:

ALCC plans to export frozen at-sea, headed and gutted, Alaska cod (Gadus macrocephalus), also known as Pacific cod. Headed and gutted means the head and viscera are removed prior to freezing. Frozen-at-sea means that the Alaska cod is frozen on the longline catcher-processor vessel while at-sea immediately after being headed and gutted. The catch accrues against cod allocations to the Members.

ALCC also plans to export byproducts of ALCC frozen-at-sea, headed and gutted Alaska cod, caught via hook-and-line gear: cod heads; cod collars; cod roe; cod chu; cod milt; ray wings; headed and gutted pollock; headed and gutted sablefish; sablefish heads; and sablefish collars. The cod heads, cod collars, cod roe, cod chu, and cod milt are derived from parts of the Alaska cod remaining after the heading-and-gutting of the cod to produce frozen-at-sea headed and gutted Alaska cod. The ray wings are derived from various species of skate, which are caught incidentally while targeting Alaska cod. The remaining products are also caught incidentally while targeting Alaska cod, except as specified below.

ALCC also plans to export the following products and byproducts caught on longline catcher- processor vessels using longline hook-and-line and longline pot gear: headed and gutted sablefish; sablefish heads; sablefish collars. The catch accrues against sablefish allocations to the Members.

ALCC also plans to export the following products and byproducts caught on longline catcher- processor vessels using longline hook-and-line gear and, when permitted by regulation, longline pot gear: headed, gutted, and tailed Greenland turbot; and turbot heads. The catch accrues against Greenland turbot allocations to the members.

ALCC's Membership remains the same following the amendment:

1. Akulurak LLC, Seattle, WA;

2. Alaskan Leader Fisheries LLC, Lynden, WA;

3. Alaskan Leader Seafoods LLC, Lynden, WA;

4. Alaskan Leader Vessel LLC, Lynden, WA;

5. Aleutian Longline, LLC, Seattle, WA;

6. Aleutian Spray Fisheries, Inc., Seattle, WA;

7. Beauty Bay Washington, LLC, Bothell, WA;

8. Bering Leader Fisheries LLC, Lynden, WA;

9. Bristol Leader Fisheries LLC, Lynden, WA;

10. Bristol Wave Seafoods, LLC, Seattle, WA;

11. Coastal Alaska Premier Seafoods, LLC, Anchorage, AK;

12. Coastal Villages Longline LLC, Anchorage, AK;

13. Deep Sea Fisheries, Inc., Everett, WA;

14. Gulf Mist, Inc., Everett, WA;

15. Gulf Prowler, LLC, Juneau, AK;

16. Kodiak Leader Fisheries LLC, Lynden, WA;

17. Northern Leader Fisheries LLC, Lynden, WA;

18. Romanzof Fishing Company, L.L.C., Seattle, WA;

19. Shelford's Boat, Ltd., Mill Creek, WA;

20. Siu Alaska Corporation, Anchorage, AK;

21. Starfish Reverse, LLC, Seattle, WA;

22. Tatoosh Seafoods, LLC, Kingston, WA.

The effective date of the amended certificate is September 5, 2024, the date on which ALCC's application to amend was deemed submitted.

Dated: December 9, 2024.
Natalie Soroka,
Acting Deputy Assistant Secretary, Trade Policy and Analysis, International Trade Administration, U.S. Department of Commerce.

[FR Doc. 2024-29232 Filed 12-11-24; 8:45 am]

BILLING CODE 3510-DR-P